DEPARTMENT OF DEFENSE

Office of the Secretary

Renewal of Department of Defense Federal Advisory Committees

AGENCY: DoD.

ACTION: Renewal of Federal Advisory Committee.

SUMMARY: Under the provisions of the Federal Advisory Committee Act of 1972, (5 U.S.C. Appendix), the Government in the Sunshine Act of 1976 (5 U.S.C. 552b), and 41 CFR 102-3.50(d), the Department of Defense (DoD) gives notice that it is renewing the charter for the Defense Science Board (hereafter referred to as “the Board”).

The Board shall provide the Secretary of Defense, the Deputy Secretary of Defense, the Under Secretary of Defense for Acquisition, Technology and Logistics, the Chairman of the Joint Chiefs of Staff, and as requested, other Office of the Secretary of Defense Principal Staff Assistants, the Secretaries of the Military Departments, and the Commanders of the Combatant Commands, independent advice and recommendations on science, technology, manufacturing, acquisition process, and other matters of special interest to the DoD. Tasks assigned to the Board or its authorized subcommittees shall be determined by the Secretary of Defense, the Deputy Secretary of Defense, or the Under Secretary of Defense for Acquisition, Technology and Logistics.

The Board is not established to advise on individual DoD procurements, but instead shall be concerned with the pressing and complex technology problems facing the Department in such areas as research, engineering, and manufacturing, and will ensure the identification of new technologies and new applications of technology in those areas to strengthen national security. No matter shall be assigned to the Board for its consideration that would require any Board member to participate personally and substantially in the conduct of any specific procurement or place him or her in the position of acting as a contracting or procurement official.

The Under Secretary of Defense for Acquisition, Technology and Logistics shall be authorized to act upon the advice and recommendations of the Board.

The Board shall report to the Secretary of Defense through the Under Secretary of Defense for Acquisition, Technology and Logistics.

The Board shall be comprised of no more than 45 members and no more than 13 Senior Fellow members, who are eminent authorities in the fields of science, technology, manufacturing, acquisition process, and other matters of special interest to the DoD. Senior Fellows shall be voting members and count toward the Board's total membership.

Board members and Senior Fellows shall be appointed by the Secretary of Defense and their appointments shall be renewed on an annual basis. Those members or Senior Fellows, who are not full-time or permanent part-time federal employees, shall be appointed to serve as experts and consultants under the authority of 5 U.S.C. 3109 and shall serve as special government employee members.

The Secretary of Defense may approve the appointment of Board members for one to four year terms of service; however, no member, unless authorized by the Secretary of Defense, may serve more than two consecutive terms of service. This same term of service limitation also applies to any DoD authorized subcommittees.

Such appointments will normally be staggered among the Board membership to ensure an orderly turnover in the Board's overall composition on a periodic basis. With the exception of travel and per diem for official Board related travel, Board members and Senior Fellows shall serve without compensation, unless the Secretary of Defense authorizes compensation for particular member(s).

The Secretary of Defense, based upon the recommendation of the Under Secretary of Defense for Acquisition, Technology and Logistics, shall appoint the Board's Chairperson. The Under Secretary of Defense for Acquisition, Technology and Logistics shall appoint the Vice Chairperson. The Board Chairperson and Vice Chairperson may serve more than one term of service, not to exceed two terms, and not to exceed their maximum allowed membership on the Board.

The Secretary of Defense may invite other distinguished U.S. Government officers or chairpersons from other DoD supported federal advisory committees to serve as non-voting observers.

The Under Secretary of Defense for Acquisition, Technology, and Logistics may appoint experts and consultants, with special expertise, to assist the Board on an ad hoc basis. These experts and consultants, if not full-time or part-time government employees, shall be appointed under the authority of 5 U.S.C. 3109, shall serve as special government employees, shall be appointed on an intermittent basis to work specific Board-related efforts, and shall have no voting rights. Non-voting observers and those non-voting experts and consultants appointed by the Under Secretary of Defense for Acquisition, Technology, and Logistics shall not count toward the Board's total membership.

Each Board member is appointed to provide advice on behalf of the government on the basis of his or her best judgment without representing any particular point of view and in a manner that is free from conflict of interest.

The Department, when necessary, and consistent with the Board's mission and DoD policies and procedures may establish subcommittees deemed necessary to support the Board. Establishment of subcommittees will be based upon a written determination, to include terms of reference, by the Secretary of Defense, the Deputy Secretary of Defense or the advisory committee's sponsor.

The Committee has established two permanent subcommittees:

a. The Permanent Task Force on Nuclear Weapons Surety shall be comprised of no more than 15 members. The primary focus of the Task Force is to assess all aspects of nuclear weapons surety to include military, federal, and contractors. This assessment should include, but is not limited to: nuclear weapons physical security, nuclear weapons safety, nuclear weapons control, command and control, nuclear operations (crew training) and execution, and nuclear surety policy. Continue to build on the work of the former Joint Advisory Committee on Nuclear Weapons Surety, the Nuclear Command & Control System End-to-End Review, and the Drell Panel. Review and recommend methods and strategies to maintain a safe, secure, and effective nuclear deterrent. Monitor and review the readiness of U.S. nuclear forces and weapons operations. The estimated number of subcommittee meetings is up to 12 per year.

b. The Survivability of DoD Systems and Assets to Electromagnetic Pulse (EMP) and Other Nuclear Weapons Effects Task Force shall be comprised of no more than 15 members. The focus of the Task Force should be to assess implementation of the DoD Instruction 3150.09, The Chemical, Biological, Radiological, and Nuclear (CBRN) Survivability Policy, dated September 17, 2008, covering nuclear survivability, including EMP, and to assess the effectiveness of the management oversight group established by the DoD Instruction. Conduct an independent review and assessment of DoD's EMP survivability program, and review other matters associated with nuclear survivability, such as the first biennial DoD report to Congress on EMP survivability. The estimated number of subcommittee meetings is up to 12 per year.

These subcommittees shall not work independently of the chartered Board, and shall report all their recommendations and advice to the Board for full deliberation and discussion. Subcommittees have no authority to make decisions on behalf of the chartered Board; nor can any subcommittee or its members update or report directly to the DoD or any Federal officers or employees.

All subcommittee members shall be appointed in the same manner as the Board members; that is, the Secretary of Defense shall appoint subcommittee members even if the member in question is already a Board member. Subcommittee members, with the approval of the Secretary of Defense, may serve a term of service on the subcommittee of one to four years; however, no member shall serve more than two consecutive terms of service on the subcommittee.

Subcommittee members, if not full-time or part-time government employees, shall be appointed to serve as experts and consultants under the authority of 5 U.S.C. 3109, and shall serve as special government employees, whose appointments must be renewed by the Secretary of Defense on an annual basis. With the exception of travel and per diem for official Board related travel, subcommittee members shall serve without compensation.

All subcommittees operate under the provisions of FACA, the Government in the Sunshine Act of 1976 (5 U.S.C. 552b), governing Federal statutes and regulations, and governing DoD policies/procedures.

FOR FURTHER INFORMATION CONTACT: Jim Freeman, Deputy Advisory Committee Management Officer for the Department of Defense, 703-692-5952.

SUPPLEMENTARY INFORMATION: The Board shall meet at the call of the Board's Designated Federal Officer, in consultation with the Board's Chairperson. The estimated number of Board meetings is four per year.

The Designated Federal Officer, pursuant to DoD policy, shall be a full-time or permanent part-time DoD employee, and shall be appointed in accordance with governing DoD policies and procedures.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to Defense Science Board membership about the Board's mission and functions. Written statements may be submitted at any time or in response to the stated agenda of planned meeting of Defense Science Board.

All written statements shall be submitted to the Designated Federal Officer for the Defense Science Board, and this individual will ensure that the written statements are provided to the membership for their consideration. Contact information for the Defense Science Board Designated Federal Officer can be obtained from the GSA's FACA Database— https://www.fido.gov/facadatabase/public.asp.

The Designated Federal Officer, pursuant to 41 CFR 102-3.150, will announce planned meetings of the Defense Science Board. The Designated Federal Officer, at that time, may provide additional guidance on the submission of written statements that are in response to the stated agenda for the planned meeting in question.

Dated: April 4, 2012.
Aaron Siegel,
Alternate OSD Federal Register Liaison Officer, Department of Defense.

[FR Doc. 2012-8456 Filed 4-6-12; 8:45 am]

BILLING CODE 5001-06-P